DEPARTMENT OF COMMERCE

Foreign-Trade Zones Board

[Docket 43-2005]

Review of Foreign-Trade Zone Activity, Foreign-Trade Subzone 43D, Perrigo Company, Battle Creek Michigan (Ibuprofen-Pharmaceutical Products)

Pursuant to its review of activity related to certain merchandise at Foreign-Trade Subzone 43D, at the pharmaceutical products manufacturing facilities of the Perrigo Company in the Battle Creek, Michigan, area (FTZ Doc. 43-2005, 70 FR 54521, 9/15/05), the FTZ staff has issued a final report. The Executive Secretary is concluding the review without prejudice to any party because the activity at issue in the review is now being considered in the context of notification of a sourcing change pursuant to 15 CFR Sec. 400.28(a)(3). The above-cited staff report will be available for public inspection at the following location: Office of the Executive Secretary, Foreign-Trade Zones Board, U.S. Department of Commerce, Room 2814B, 1401 Constitution Ave. NW., Washington, DC 20230.

Dated: December 29, 2006.
Andrew McGilvray,
Executive Secretary.

[FR Doc. E7-218 Filed 1-10-07; 8:45 am]

BILLING CODE 3510-DS-S